DEPARTMENT OF COMMERCE

International Trade Administration

[A-570-806]

Silicon Metal From the People's Republic of China: Rescission of Antidumping Duty Administrative Review

AGENCY: Import Administration, International Trade Administration, Department of Commerce.

DATES: Effective Date: March 7, 2011.

FOR FURTHER INFROMATION CONTACT: Magd Zalok or Howard Smith, AD/CVD Operations, Office 4, Import Administration, International Trade Administration, U.S. Department of Commerce, 14th Street and Constitution Avenue, NW., Washington DC 20230, telephone: (202) 482-4162 or (202) 482-5193, respectively.

SUPPLEMENTAL INFORMATION:

Background

On June 1, 2010, the Department of Commerce (the “Department”) published a notice of opportunity to request an administrative review for the period of review covering June 1, 2009, through May 31, 2010 (“POR”). See Antidumping or Countervailing Duty Order, Finding, or Suspended Investigation; Opportunity To Request Administrative Review, 75 FR 30383 (June 1, 2010). In accordance with 19 CFR 351.213(b)(1), Globe Metallurgical Inc. (“Globe”), a domestic producer of silicon metal, requested an administrative review of the antidumping duty order on silicon metal from the PRC with respect to the following companies: Jiangxi Gangyuan Silicon Industry Company Ltd. (“Gangyuan”); Shanghai Jinneng International Trade Co., Ltd. (“Shanghai Jinneng”); and Zhejiang Kaihua Yuantong Silicon Industry Co., Ltd. (“Zhejiang”).¹ No other party requested a review. The Department published the initiation of the administrative review of the antidumping duty order on silicon metal from the PRC on July 28, 2010, in which the Department initiated an administrative review of the aforementioned three companies covering the period June 1, 2009, through May 31, 2010. See Initiation of Antidumping and Countervailing Duty Administrative Reviews and Requests for Revocations in Part, 75 FR 44224 (July 28, 2010).

¹ See Globe's June 30, 2010 “Request for 2009-10 Administrative Review” for Silicon Metal from the People's Republic of China.

On August 18, 2010, Gangyuan and Shanghai Jinneng notified the Department that they had no entries, exports, or sales of the subject merchandise to the United States during the POR. On September 20, 2010, the Department issued a no shipments e-mail to U.S. Customs and Border Protection (“CBP”) requesting notification within 10 days of receipt of the e-mail if CBP had information contrary to the no shipments claims of Gangyuan and Shanghai Jinneng. Also, the Department conducted a CBP data query to ascertain whether there were entries of subject merchandise from Gangyuan or Shanghai Jinneng. See August 11, 2010, Memorandum from Analyst to File entitled “2009-2010 Administrative Review of Silicon Metal from the People's Republic of China, Placing CBP Data on the Record.” See also September 22, 2010, Memorandum from Abdelali Elouaradia, Office Director, Office 4, Import Administration to Michael Walsh, Director, AD/CVD/Revenue Policy & Programs, U.S. Customs and Border Protection entitled “Request for U.S. Entry Documents—Silicon Metal from the People's Republic of China A-570-806.”

On January 11, 2011, Globe withdrew its request for review of Zhejiang. On February 15, 2011, the Department issued a memorandum of intent to rescind the antidumping administrative review with respect to Gangyuan and Shanghai Jinneng and provided parties with an opportunity to comment on the Department's intent to rescind the review. See Silicon Metal From the People's Republic of China: Memorandum of Intent to Rescind Antidumping Duty Administrative Review, in Part, dated February 15, 2010. No parties commented on the Department's intent to rescind the review.

Rescission of Review

The Department may rescind an administrative review with respect to an exporter or producer if the Department concludes that there were no entries, exports, or sales of the subject merchandise to the United States during the POR. See 19 CFR 351.213(d)(3). As noted above, Gangyuan and Shanghai Jinneng reported that they did not have any entries of subject merchandise during the POR. To test Gangyuan's and Shanghai Jinneng's claim, the Department examined the CBP documentation, and found that the record provides no information to contradict Gangyuan's and Shanghai Jinneng's claim of no sales or shipments to the United States during the POR. Accordingly, pursuant to 19 CFR 351.213(d)(3), since there were no entries, export or sales of the subject merchandise by Gangyuan and Shanghai Jinneng during the POR, the Department has determined to rescind this administrative review with respect to these two companies.

Pursuant to 19 CFR 351.213(d)(1), the Department will rescind an administrative review, in whole or in part, if the party that requested the review withdraws its request within 90 days of the date of publication of the notice of initiation of the requested review. The Department may extend this time limit if it decides that it is reasonable to do so. As noted above, Globe withdrew its request for review of Zhejiang on January 11, 2011. While Globe withdrew its request for an administrative review after the 90-day deadline, the Department has determined that it is reasonable to extend the time for Globe to file a withdrawal of its request for a review of Zhejiang because the review is not at an advanced stage such that significant resources have been expended in conducting the review. Accordingly, in accordance with 19 CFR 351.213(d)(1), we are also rescinding this review of the antidumping duty order with respect to Zhejiang.

Assessment

The Department intends to issue assessment instructions to CBP 15 days after publication of this rescission notice. The Department will instruct CBP to assess antidumping duties at rates equal to the cash deposit of estimated antidumping duties required at the time of entry, or withdrawal from warehouse, for consumption, in accordance with 19 CFR 351.212(c)(1)(i).

Notification to Parties

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: February 28, 2011.
Gary Taverman,
Acting Deputy Assistant Secretary for Antidumping and Countervailing Duty Operations.

[FR Doc. 2011-5120 Filed 3-4-11; 8:45 am]

BILLING CODE 3510-DS-P